DEPARTMENT OF JUSTICE

Notice of Lodging of Proposed Consent Decree Under the Clean Water Act

Under 28 CFR 50.7, notice is hereby given that on December 9, 2004, a proposed Consent Decree in United States v. City of Reading, Pennsylvania, Civil Action No. 04-5696, was lodged with the United States District Court for the Eastern District of Pennsylvania, simultaneously with a complaint.

The complaint alleges discharges of pollutants and other violations of the Clean Water Act, 33 U.S.C. 1251 et seq., by the City of Reading and seeks injunctive relief and civil penalties for its operation of its sewage treatment plant.

The consent decree lodged concurrently with the complaint resolves the claims in the complaint and obligates the City of Reading to pay a civil penalty of $239,000 to be divided equally between the United States and the Commonwealth of Pennsylvania. In the settlement, the City agrees to extensive remedies to or replacements of parts of the existing sewage treatment plant. The City also will perform a Supplemental Environmental Project in the Angelica Park wetlands.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. City of Reading, DOJ #90-5-1-1-07869 and Civil Action No. 04-5696.

The Consent Decree may be examined at the Office of the United States Attorney, Eastern District of Pennsylvania, c/o Margaret Hutchinson, 615 Chestnut Street, Suite 1250, Philadelphia, PA, 19106, and at U.S. EPA Region III, 1650 Arch Street, Philadelphia, PA 19103-2029. During the public comment period, the Consent Decree may also be examined on the following Department of Justice Web site, http://www.usdoj.gov/enrd/open.html. A copy of the Consent Decree may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $14.00, payable to the U.S. Treasury.

Robert Brook,
Assistant Chief, Environmental Enforcement Section, Environment and Natural Resources Division.

[FR Doc. 04-28046 Filed 12-22-04; 8:45 am]

BILLING CODE 4410-15-M